DEPARTMENT OF LABOR

Employment and Training Administration

[TA-W-70,988]

Delphi Corporation, a Subsidiary of Delphi Holdings, LLC, Including On-Site Leased Workers From Securitas, Interim Physicians LLC, EDS, Bartech Group, Mays Chemical Company, Greater Flint Janitorial Services, HSS Material Management Solutions and Consumer Energy; Flint, MI; Amended Certification Regarding Eligibility To Apply for Worker Adjustment Assistance

In accordance with Section 223 of the Trade Act of 1974, as amended (“Act”), 19 U.S.C. 2273, the Department of Labor issued a Certification of Eligibility to Apply for Worker Adjustment Assistance on March 5, 2010, applicable to workers of Delphi Corporation, a subsidiary of Delphi Holdings, LLC, including on-site leased workers from Securitas, Interim Physicians LLC, EDS, Bartech Group, Mays Chemical Company, Greater Flint Janitorial Services and HSS Material Management Solutions, Flint, Michigan. The notice was published in the Federal Register on April 23, 2010 (75 FR 21361).

At the request of the State Agency, the Department reviewed the certification for workers of the subject firm. The workers are engaged in the production of fuel modules, instrument clusters, and air meters.

The review shows that on May 15, 2007, a certification of eligibility to apply for adjustment assistance was issued for all workers of Delphi Corporation Automotive Holding Group, Flint, Michigan, engaged in the production of instrument clusters, separated from employment on or after March 30, 2006 through May 15, 2009. The notice was published in the Federal Register on May 30, 2007 (72 FR 30033).

The review also shows that on October 1, 2007, a certification of eligibility to apply for adjustment assistance was issued for all workers of Delphi Corporation Automotive Holding Group, Flint, Michigan, engaged in the production of fuel modules and air meters, separated from employment on or after August 27, 2006 through October 1, 2009. The notice was published in the Federal Register on October 17, 2007 (72 FR 58899).

In order to avoid overlaps in worker group coverage, the Department is amending the June 4, 2008 impact date established for TA-W-70,988 to read May 16, 2009 for workers producing instrument clusters and October 2, 2009 for workers producing fuel modules and air meters.

Furthermore, the company reports that workers leased from Consumer Energy were employed on-site at the subject firm. The Department has determined that these workers were sufficiently under the control of the subject firm to be considered leased workers.

Based on these findings, the Department is amending this certification to include workers leased from Consumer Energy working on-site at the subject firm.

The amended notice applicable to TA-W-70,988 is hereby issued as follows:

All workers of Delphi Corporation, a subsidiary of Delphi Holdings, LLC, including on-site leased workers from Securitas, EDS, Bartech Group, Mays Chemicals Company, Interim Physicians, LLC and HSS Material Management Solutions, Flint, Michigan, engaged in the production of instrument clusters, who became totally or partially separated from employment on or after May 16, 2009, AND all workers of Delphi Corporation, a subsidiary of Delphi Holdings, LLC, including on-site leased workers of Securitas, EDS, Bartech Group, Mays Chemicals Company, Interim Physicians, LLC, HSS Material Management Solutions, Flint, Michigan, engaged in the production of fuel modules and air meters who became totally or partially separated from employment on or after October 2, 2009, AND all leased workers from Interim Physicians LLC, Greater Flint Janitorial Services, HSS Material Management Solutions and Consumer Energy, working on-site at Delphi Corporation, a subsidiary of Delphi Holdings, LLC, Flint, Michigan, who became totally or partially separated from employment on or after June 4, 2008 through March 5, 2012, and all workers in the group threatened with total or partial separation from employment on March 5, 2010 through March 5, 2012, are eligible to apply for adjustment assistance under Chapter 2 of Title II of the Trade Act of 1974, as amended.

Signed in Washington, DC, this 1st day of July, 2010.
Del Min Amy Chen,
Certifying Officer, Division of Trade Adjustment Assistance.

[FR Doc. 2010-17380 Filed 7-15-10; 8:45 am]

BILLING CODE 4510-FN-P